DEPARTMENT OF ENERGY

Federal Energy Regulatory Commission

Combined Notice of Filings #1

January 17, 2006.

Take notice that the Commission received the following electric rate filings.

Docket Numbers: ER01-205-010; ER98-2640-008; ER98-4590-006; ER99-1610-013; EL05-115-000.

Applicants: Xcel Energy Services, Inc.; Northern States Power Company; Public Service Company of Colorado; Southwestern Public Service Company, New Century Services, Inc.; Xcel Energy Services, Inc.

Description: Xcel Energy Services, Inc., on behalf of Southwestern Public Service Co. et al. submit an amendment to its updated market power analysis in response to FERC's December 8, 2005 letter and January 12, 2006 revision filing for Attachment B to this filing.

Filed Date: January 10, 2006.

Accession Number: 20060112-0038.

Comment Date: 5 p.m. Eastern Time on Tuesday, January 31, 2006.

Docket Numbers: ER01-642-004; ER01-1335-006; ER01-1011-008.

Applicants: CottonWood Energy Company LP; Magnolia Energy LP; Redbud Energy LP.

Description: Cottonwood Energy, LP, Magnolia Energy LP and Redbud Energy LP submit an amended notification of change in status under market-based rate authority.

Filed Date: January 10, 2006.

Accession Number: 20060112-0035.

Comment Date: 5 p.m. Eastern Time on Tuesday, January 31, 2006.

Docket Numbers: ER01-642-005; ER01-1335-007; ER01-1011-009.

Applicants: CottonWood Energy Company LP; Magnolia Energy LP; Redbud Energy LP.

Description: Cottonwood Energy Co., LP et al. submit revisions to their respective market-based tariff to include a Conduct of Conduct.

Filed Date: January 10, 2006.

Accession Number: 20060113-0145.

Comment Date: 5 p.m. Eastern Time on Tuesday, January 31, 2006.

Docket Numbers: ER03-394-004; ER03-427-004; ER03-175-006.

Applicants: Elk Hills Power, LLC; Mesquite Power, LLC, Termoelectrica U.S., LLC.

Description: Elk Hills Power, LLC, Mesquite Power, LLC, et al. submit an updated market power analysis pursuant to FERC's March 21, 2003 Order.

Filed Date: January 10, 2006.

Accession Number: 20060113-0124.

Comment Date: 5 p.m. Eastern Time on Tuesday, January 31, 2006.

Docket Numbers: ER05-1312-001; EC05-123-000.

Applicants: Monongahela Power Company and Columbus Southern Power Company.

Description: Monongahela Power Co., on behalf of Columbus Southern Power Co., notifies FERC that the dispositions and acquisition of the jurisdiction facilities authorized by such order was consummated on December 31, 2005.

Filed Date: January 10, 2006.

Accession Number: 20060113-0146.

Comment Date: 5 p.m. Eastern Time on Tuesday, January 31, 2006.

Docket Numbers: ER06-318-001.

Applicants: North American Energy Credit and Clearing.

Description: North American Energy Credit and Clearing submits supplemental information and a revised rate schedule to amend the Petition for Acceptance of Initial Rate Schedule, Wavier and Blanket Authority.

Filed Date: January 10, 2006.

Accession Number: 20060113-0147.

Comment Date: 5 p.m. Eastern Time on Tuesday, January 31, 2006.

Docket Numbers: ER06-326-001.

Applicants: North American Energy Credit and Clearing.

Description: North American Energy Credit & Clearing submits supplemental information and a revised rate schedule to amend the Petition for Acceptance of Initial Rate Schedule, Waivers & BlanketAuthority.

Filed Date: January 10, 2006.

Accession Number: 20060113-0148.

Comment Date: 5 p.m. Eastern Time on Tuesday, January 31, 2006.

Docket Numbers: ER06-463-000.

Applicants: Alcoa Power Generating, Inc.

Description: Alcoa Power Generating, Inc., submits the required ministerial changes to the Large Generator Interconnection Agreement, Small Generator Interconnection Procedures and Small Gen. Interconnection Agreement sections of its Yadkin OATT.

Filed Date: January 10, 2006.

Accession Number: 20060112-0323.

Comment Date: 5 p.m. Eastern Time on Tuesday, January 31, 2006.

Docket Numbers: ER06-464-000.

Applicants: Highlands Energy Group LLC.

Description: Highlands Energy Group, LLC's petition for acceptance of initial rate schedule, waivers, and blanket authority.

Filed Date: January 10, 2006.

Accession Number: 20060112-0324.

Comment Date: 5 p.m. Eastern Time on Tuesday, January 31, 2006.

Docket Numbers: ER06-466-000.

Applicants: EL Paso Electric Company.

Description: El Paso Electric Co., submits an unexecuted Service Agreement with Tucson Electric Power Co.

Filed Date: January 10, 2006.

Accession Number: 20060112-0326.

Comment Date: 5 p.m. Eastern Time on Tuesday, January 31, 2006.

Docket Numbers: ER06-470-000.

Applicants: Alcoa Power Generating Inc.

Description: Alcoa Power Generating Inc., submits required ministerial changes to the Large Generator Interconnection Agreement, and Small Generator Interconnection Agreement sections of its Tapoco Division OATT.

Filed Date: January 10, 2006.

Accession Number: 20060112-0329.

Comment Date: 5 p.m. Eastern Time on Tuesday, January 31, 2006.

Docket Numbers: ER96-1551-015; ER01-615-011.

Applicants: Public Service Company of New Mexico.

Description: Public Service Co. of New Mexico, submits filing of a possible change in status with regard to the characteristics that the Commission previously relied upon in granting PNM Market-Based Rate Authority.

Filed Date: January 10, 2006.

Accession Number: 20060113-0177.

Comment Date: 5 p.m. Eastern Time on Tuesday, January 31, 2006.

Docket Numbers: ER98-1150-007.

Applicants: Tucson Electric Power Company.

Description: Tucson Electric Power Co., submits filing of a change in status with regard to the characteristics that the Commission relied upon in granting market-based rate authority.

Filed Date: January 10, 2006.

Accession Number: 20060113-0125.

Comment Date: 5 p.m. Eastern Time on Tuesday, January 31, 2006.

Docket Numbers: ER99-1757-009; EL05-67-000.

Applicants: The Empire District Electric Company.

Description: The Empire District Electric Co., submits additional information in response to the Commission's deficiency letter order dated December 9, 2005.

Filed Date: January 9, 2006.

Accession Number: 20060112-0306.

Comment Date: 5 p.m. Eastern Time on Monday, January 30, 2006.

Docket Numbers: ER99-3077-002.

Applicants: Colorado Power Partners.

Description: Colorado Power Partners submits an amendment to its triennial updated market power analysis and substitute tariff sheets to FERC Electric Tariff, Original Volume No. 1.

Filed Date: January 10, 2006.

Accession Number: 20060112-0036.

Comment Date: 5 p.m. Eastern Time on Tuesday, January 31, 2006.

Docket Numbers: ER99-3197-002.

Applicants: BIV Generation Company LLC.

Description: BIV Generation Co., LLC submits an amendment to its triennial updated market power analysis and Substitute tariff sheets to FERC Electric Tariff, Original Volume No. 1.

Filed Date: January 10, 2006.

Accession Number: 20060112-0037.

Comment Date: 5 p.m. Eastern Time on Tuesday, January 31, 2006.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-789 Filed 1-23-06; 8:45 am]

BILLING CODE 6717-01-P